DEPARTMENT OF ENERGY

Federal Energy Regulatory Commission

[Project No. 13806-004]

5440 Hydro Inc.; Notice of Application Tendered for Filing With the Commission and Soliciting Additional Study Requests

Take notice that the following hydroelectric application has been filed with the Commission and is available for public inspection.

a. Type of Application: Exemption from Licensing.

b. Project No.: 13806-004.

c. Date filed: July 28, 2014.

d. Applicant: 5440 Hydro Inc.

e. Name of Project: Brooklyn Dam Hydroelectric Project.

f. Location: On the Upper Ammonoosuc River, in the Town of Northumberland, Coos County, New Hampshire. The project would not occupy lands of the United States.

g. Filed Pursuant to: Public Utility Regulatory Policies Act of 1978, 16 U.S.C. 2705, 2708.

h. Applicant Contact: Lutz Loegters, 5440 Hydro Inc., 717 Atlantic Avenue, Suite 1A, Boston, Massachusetts 02111, (416) 643-6615.

i. FERC Contact: John Ramer, (202) 502-8969, john.ramer@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 26, 2014.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13806-004.

m. The application is not ready for environmental analysis at this time.

n. The Brooklyn Dam Hydroelectric Project would consist of: (1) An existing 163-foot-long, 14-foot-high dam with three 49.5-foot-wide trashracks, a 50-foot-long floodgate structure with 5 floodgates, and a 113-foot-long spillway with a crest elevation 878.69 feet National Geodetic Vertical Datum of 1929 (NGVD29) and 2.54-foot-high flashboards; (2) an existing 100-foot-long, 45-foot-wide forebay; (3) an existing 9-foot-wide slide gate located in the forebay; (4) an existing 26-acre impoundment having a gross storage capacity of 52-acre-feet at the top of the flashboards (i.e., elevation 881.23 feet NGVD29); (5) an existing 45-foot-long, 50-foot-wide powerhouse containing two new 300-kilowatt (kW), Kaplan turbine-generating units for a total installed capacity of 600 kW; (6) an existing tailrace; (7) a new transformer and 250-foot-long, 35.4-kilovolt transmission line; and (8) appurtenant facilities. The project would generate approximately 2,800 megawatt-hours annually. The applicant proposes to rehabilitate the powerhouse and tailrace and operate the project in a run-of-river mode.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the New Hampshire State Historic Preservation Officer (SHPO), as required by section 106 of the National Historic Preservation Act and the regulations of the Advisory Council on Historic Preservation, 36 CFR 800.4.

q. Procedural schedule: The application will be processed according to the following preliminary schedule. Revisions to the schedule will be made as appropriate (e.g., if there are no deficiencies and/or scoping is waived, the schedule would be shortened).

Issue Deficiency Letter—September 2014

Issue Notice of Acceptance—November 2014

Issue Scoping Document—December 2014

Issue Notice Ready for Environmental Analysis—February 2015

Issue Notice of the Availability of the EA—July 2015

Dated: August 4, 2014.
Kimberly D. Bose,
Secretary.

[FR Doc. 2014-18884 Filed 8-8-14; 8:45 am]

BILLING CODE 6717-01-P